DEPARTMENT OF COMMERCE

National Oceanic and Atmospheric Administration

RIN 0648-XE206

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its Guam Mariana Archipelago Fishery Ecosystem Plan (FEP) Advisory Panel (AP) to discuss and make recommendations on fishery management issues in the Western Pacific Region.

DATES: The Guam Mariana Archipelago FEP AP will meet on Friday, October 9, 2015, between 6 p.m. and 7:30 p.m. All times listed are local island times. For specific times and agendas, see SUPPLEMENTARY INFORMATION.

ADDRESSES: The Guam Mariana Archipelago FEP AP will meet at the Guam Fishermen's Cooperative Association Lanai in Hagatna, Guam.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the Guam Mariana Archipelago FEP AP Meeting

Friday, October 9, 2015, 6 p.m.-7:30 p.m.

1. “Hafa Adai” Welcome and Introductions

2. Review and Approval of the Agenda

3. Issues to be discussed at 164th Council Meeting

A. Upcoming Council Action Items

i. Specification of Territorial Bottomfish Annual Catch Limits (ACLs)

ii. 2016 Territorial Bigeye Tuna Catch Limit Specifications

iii. Council review of Mariana FEP and Proposed Changes

B. Mariana Archipelago FEP-Guam Community Activities

4. Mariana Archipelago FEP-Guam Issues

A. Report of the Subpanels

i. Island Fisheries Subpanel

ii. Pelagic Fisheries Subpanel

iii. Ecosystems and Habitat Subpanel

iv. Indigenous Fishing Rights Subpanel

B. Other Issues

5. Public Hearing

6. Discussion and Recommendations

7. “At the end of the day” Other Business

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 21, 2015.
Tracey L. Thompson,
Acting Deputy Director, Office of Sustainable Fisheries, National Marine Fisheries Service.

[FR Doc. 2015-24253 Filed 9-23-15; 8:45 am]

BILLING CODE 3510-22-P